DEPARTMENT OF THE INTERIOR

Fish and Wildlife Service

Modoc National Wildlife Refuge, Modoc County, CA

AGENCY: Fish and Wildlife Service, Interior.

ACTION: Notice of intent to prepare a comprehensive conservation plan and environmental assessment.

SUMMARY: The U.S. Fish and Wildlife Service (Service) is preparing a Comprehensive Conservation Plan (CCP) and Environmental Assessment (EA) for the Modoc National Wildlife Refuge (Refuge) located in Modoc County of California. This notice advises the public that the Service intends to gather information necessary to prepare a CCP and EA pursuant to the National Wildlife Refuge System Administration Act of 1966, as amended, and the National Environmental Policy Act (NEPA). The public and other agencies are encouraged to participate in the planning process by sending written comments on management actions that the Service should consider. The Service is also furnishing this notice in compliance with the Service CCP policy to obtain suggestions and information on the scope of issues to include in the CCP and EA. Opportunities for public input will be announced throughout the CCP/EA planning and development process.

DATES: To ensure that the Service has adequate time to evaluate and incorporate suggestions and other input into the planning process, comments should be received on or before September 30, 2007.

ADDRESSES: Send written comments or requests to be added to the mailing list to the following address: Jackie Ferrier, Refuge Planner, Sacramento National Wildlife Refuge, 752 County Road 99W, Willows, CA 95988. Written comments may also be faxed to (530) 934-7814, or sent by electronic mail to jackie_ferrier@fws.gov. You may find additional information concerning the Refuge at the Internet site http://www.fws.gov/modoc/.

FOR FURTHER INFORMATION CONTACT: Jackie Ferrier, Refuge Planner, at (530) 934-2801 or Steve Clay, Refuge Manager, at (530) 233-3572.

SUPPLEMENTARY INFORMATION: The National Wildlife Refuge System Administration Act of 1966, as amended by the National Wildlife Refuge System Improvement Act of 1997, requires the Service to develop a CCP for each National Wildlife Refuge. The purpose in developing a CCP is to provide refuge managers with a 15-year strategy for achieving refuge purposes and contributing toward the mission of the National Wildlife Refuge System, consistent with sound principles of fish and wildlife management, conservation, legal mandates, and Service policies. In addition to outlining broad management direction on conserving wildlife, plants and their habitats, the CCP will identify compatible wildlife-dependent recreational opportunities available to the public. The recreational opportunities that will receive priority consideration are hunting, fishing, wildlife observation and photography, and environmental education and interpretation. The planning process will consider many other elements, including cultural resource protection, environmental effects, and administrative resources. Public input into this planning process is very important. The CCP will provide other agencies and the public with a clear understanding of the desired conditions for the Refuge and how the Service will implement management strategies.

Comments received will be used to help develop goals and objectives, as well as identify key issues evaluated in the NEPA document. All comments received, including names and addresses, will become part of the administrative record and may be made available to the public. Opportunities for public participation will occur throughout the process.

The Service will send Planning Updates to people who are interested in the CCP process. These mailings will provide information on how to participate in the CCP process. Interested federal, state, and local agencies, organizations, and individuals are invited to provide input. The Service expects to complete the CCP in 2009.

Background

The 7,021 acre Modoc National Wildlife Refuge is located southeast of Altuas, California. The Refuge was established in 1961 pursuant to the Migratory Bird Conservation Act (16 U.S.C. 715d) and the Refuge Recreation Act (16 U.S.C. 460k-460K.4). Lands within the Refuge have been set aside for use as an inviolate sanctuary, and other management purposes, for migratory birds, for incidental fish and wildlife-oriented recreational development, for the protection of natural resources, and for the conservation of endangered species or threatened species.

Located near the confluence of the north and south forks of the Pit River, the Refuge conserves, protects, and manages a mosaic of freshwater lakes and ponds, seasonal wetlands, irrigated meadows, grasslands, and sagebrush/juniper upland habitats. These habitats provide important resting, feeding, and nesting areas for ducks, geese, and other migratory birds including the greater sandhill crane.

The Service anticipates a draft CCP and EA to be available for public review and comment in 2008.

Dated: August 3, 2007.
Ken McDermond,
Acting Manager, CA/NV Operations, Sacramento, California.

[FR Doc. E7-15603 Filed 8-8-07; 8:45 am]

BILLING CODE 4310-55-P